ENVIRONMENTAL PROTECTION AGENCY

[FRL-8140-01-R10]

Reissuance of NPDES General Permit for Tribal Enhancement and Federal Research Marine Net Pen Facilities Within Puget Sound (WAG132000)

AGENCY: Environmental Protection Agency (EPA).

ACTION: Reissuance of NPDES general permit.

SUMMARY: The Environmental Protection Agency (EPA), Region 10, is reissuing the National Pollutant Discharge Elimination System (NPDES) General Permit for Tribal Enhancement and Federal Research Marine Net Pen Facilities Within Puget Sound (WAG132000). Eligible facilities include tribal enhancement net pens, which are permitted to raise up to 200,000 pounds of native salmonids over a four-month growing period each year, and Federal research net pen facilities, which are permitted to raise up to 100,000 pounds annually of native finfish. Currently, there are five tribal enhancement facilities and one Federal research facility eligible for coverage under the general permit. Existing enhancement and research facilities may request authorization to discharge under the general permit by submitting a Notice of Intent (NOI) no more than ninety (90) days following the effective date of the permit. New enhancement or research facilities that begin operations after the effective date of the general permit must submit a NOI at least 180 days prior to initiation of operations. Upon receipt, EPA will review the NOI to ensure that all permit requirements are met. If determined appropriate by EPA, a discharger will be granted coverage under the general permit upon the date that EPA provides written notification.

DATES: The issuance date of the general permit is April 20, 2022. The general permit will be effective May 20, 2022.

ADDRESSES: Copies of the general permit, Fact Sheet, and Response to Comments are available upon request. Electronic requests may be sent to: washington.audrey@epa.gov.

FOR FURTHER INFORMATION CONTACT: For requests by phone, call Audrey Washington at (206) 553-0523. These documents can also be accessed online on the EPA Region 10 website at: https://www.epa.gov/npdes-permits/npdes-general-permit-tribal-enhancement-and-federal-research-marine-net-pen.

SUPPLEMENTARY INFORMATION:

I. General Information

Please see the general permit and Fact Sheet for detailed information on permit conditions.

EPA received two comments from one entity during the public comment period, published in the Federal Register on February 9, 2021 (86 FR 8779), comments due by March 26, 2021. EPA also received tribal and state CWA 401 certifications, which can be found in Appendix D of the Fact Sheet. Consultation with the National Marine Fisheries Service and the U.S. Fish and Wildlife Service under Section 7 of the Endangered Species Act has been completed. A Response to Comments document was prepared, which explains any changes made to the general permit between proposal and final issuance.

II. Other Legal Requirements

This action is not a significant regulatory action and, therefore, was not submitted to the Office of Management and Budget (OMB) for review.

Compliance with Endangered Species Act, Essential Fish Habitat, Paperwork Reduction Act, and other requirements are discussed in the Fact Sheet to the general permit.

Appeal of Permit: Any interested person may appeal the final permit action within 120 days of April 20, 2022 (i.e., the issuance date of this permit) in the Federal Court of Appeals in accordance with Section 509(b)(1) of the CWA, 33 U.S.C 1369(b)(1).

Daniel D. Opalski,
Director, Water Division, Region 10.

[FR Doc. 2022-08396 Filed 4-19-22; 8:45 am]

BILLING CODE 6560-50-P